FEDERAL TRADE COMMISSION

Granting of Requests for Early Termination of the Waiting Period Under the Premerger Notification Rules

Section 7A of the Clayton Act, 15 U.S.C. 18a, as added by Title II of the Hart-Scott- Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted September 1, 2018 Thru September 30, 2018
09/04/2018
20181782 | G | DocuSign, Inc.; SpringCM Inc.; DocuSign, Inc.
20181871 | G | ABRY Partners VIII, L.P.; Donuts Inc.; ABRY Partners VIII, L.P.
20181885 | G | PAI Europe VII-1 SCSp; Eurazeo SE; PAI Europe VII-1 SCSp.
20181892 | G | Vista Equity Partners Fund V, L.P.; Susquehanna Growth Equity Fund II, LLLP; Vista Equity Partners Fund V, L.P.
20181893 | G | Vista Equity Partners Fund V, L.P.; Gwo Liou; Vista Equity Partners Fund V, L.P.
20181894 | G | Jura Holdings Limited; John Laing Infrastructure Fund Limited; Jura Holdings Limited.
20181897 | G | Energy Transfer Equity, L.P.; Energy Transfer Partners, L.P.; Energy Transfer Equity, L.P.
20181899 | G | Movado Group, Inc.; Mr. Jacob Kassan; Movado Group, Inc.
20181901 | G | Movado Group, Inc.; Mr. Kramer LaPlante; Movado Group, Inc.
20181903 | G | Fortune Brands Home & Security, Inc.; Douglas Mancosh; Fortune Brands Home & Security, Inc.
20181904 | G | Cabot Microelectronics Corporation; KMG Chemicals, Inc.; Cabot Microelectronics Corporation.
20181916 | G | Snow Phipps III, L.P.; Brazos Equity Fund III, L.P.; Snow Phipps III, L.P.
20181922 | G | Newco, a to-be-formed corporation; RTI Parent, Inc.; Newco, a to-be-formed corporation.
20181923 | G | Alphabet Inc.; Mulberry Health Inc.; Alphabet Inc.
20181928 | G | Agiliti, Inc.; Irving Place Capital Parnters III SPV, L.P.; Agiliti, Inc.
09/05/2018
20181907 | G | Golden Gate Capital Opportunity Fund. LP; Aperio Group. LLC; Golden Gate Capital Opportunity Fund. LP.
20181912 | G | Crestview Partners III, L.P.; Matlin & Partners Acquisition Corporation; Crestview Partners III, L.P.
09/06/2018
20181799 | G | RELX PLC; Lyndon S. Holmes; RELX PLC.
20181800 | G | RELX NV; Lyndon S. Holmes; RELX NV.
09/07/2018
20181704 | G | Thoma Bravo Discover Fund, L.P.; Marsh & McLennan Companies, Inc.; Thoma Bravo Discover Fund, L.P.
09/10/2018
20181609 | G | NextEra Energy, Inc.; The Southern Company; NextEra Energy, Inc.
20181610 | G | NextEra Energy, Inc.; The Southern Company; NextEra Energy, Inc.
20181873 | G | Titan DI Holdings, Inc.; Accel-KKR Capital Partners IV, LP; Titan DI Holdings, Inc.
20181930 | G | Northern Star Resources Limited; Sumitomo Corporation; Northern Star Resources Limited.
20181931 | G | 3i Infrastructure plc; EQT Infrastructure II (No. 1) Feeder Limited Partnership; 3i Infrastructure plc.
20181932 | G | Arbejdsmarkedets Tillaegspension; EQT Infrastructure II (No.1) Feeder Limited Partnership; Arbejdsmarkedets Tillaegspension.
20181933 | G | David Lilley; Quilvest S.A.; David Lilley.
20181941 | G | Best Buy Co., Inc.; GTCR Fund XI/A LP; Best Buy Co., Inc.
20181942 | G | Donald M. Berman; Nationwide Mutual Insurance Company; Donald M. Berman.
20181943 | G | Diamondback Energy, Inc.; Energen Corporation; Diamondback Energy, Inc.
20181953 | G | Hamilton Infrastructure Trust; Plains All American Pipeline, L.P.; Hamilton Infrastructure Trust.
20181954 | G | Hamilton Infrastructure Trust; Magellan Midstream Partners, L.P.; Hamilton Infrastructure Trust.
20181955 | G | PJT Partners Inc.; CamberView Partners Holdings, LLC; PJT Partners Inc.
20181958 | G | Century Focused Fund III, L.P.; Mario J. Flores Jr.; Century Focused Fund III, L.P.
20181961 | G | MIP IV (ECI) AIV, L.P.; Tunnel Hill Partners, LP; MIP IV (ECI) AIV, L.P.
20181962 | G | CCMP Capital Investors III, L.P.; NB Parent Company, Inc.; CCMP Capital Investors III, L.P.
20181964 | G | Societe Investissement Deconinck; H.I.G. Capital Partners IV, L.P.; Societe Investissement Deconinck.
20181972 | G | Rhone Partners V L.P.; MaxamCorp Holdings, S.L.; Rhone Partners V L.P.
20181975 | G | Carlyle Partners VII, L.P.; 1Life Healthcare, Inc.; Carlyle Partners VII, L.P.
09/11/2018
20181853 | G | Elliott International Limited; Nielsen Holdings plc; Elliott International Limited.
20181854 | G | Elliott Associates, L.P.; Nielsen Holdings plc; Elliott Associates, L.P.
20181890 | G | VanEck Vectors ETF Trust; Pan American Silver Corp.; VanEck Vectors ETF Trust.
20181945 | G | Liberty Expedia Holdings, Inc.; Expedia Group, Inc.; Liberty Expedia Holdings, Inc.
20181949 | G | LG Chem, Ltd.; Koch Enterprises, Inc.; LG Chem, Ltd.
20181951 | G | Malibu Boats, Inc.; S2 Yachts, Inc.; Malibu Boats, Inc.
20181971 | G | Avista Healthcare Public Acquisition Corp.; Organogenesis Inc.; Avista Healthcare Public Acquisition Corp.
20181976 | G | Apax IX USD L.P.; The PNC Financial Services Group, Inc.; Apax IX USD L.P.
09/12/2018
20181925 | G | The CVRF Trust; Dell Technologies Inc.; The CVRF Trust.
20181926 | G | The CBEF Master Trust; Dell Technologies Inc.; The CBEF Master Trust.
20181927 | G | Canyon Value Realization Fund, L.P.; Dell Technologies Inc.; Canyon Value Realization Fund, L.P.
09/13/2018
20181944 | G | Graphic Packaging Holding Company; RPC Group Plc; Graphic Packaging Holding Company.
09/14/2018
20181911 | G | Audax Private Equity Fund V-A, L.P.; Looking Glass I Holdings, Inc.; Audax Private Equity Fund V-A, L.P.
20181974 | G | The Allstate Corporation; InfoArmor, Inc.; The Allstate Corporation.
20181983 | G | Lindsay Goldberg IV L.P.; P.H. Glatfelter Company; Lindsay Goldberg IV L.P.
20181998 | G | Ronald M. Shaich; Zoe's Kitchen, Inc.; Ronald M. Shaich.
20181999 | G | Stichting Administratiekantoor Westend; Zoe's Kitchen, Inc.; Stichting Administratiekantoor Westend.
20182000 | G | Cava Group, Inc.; Zoe's Kitchen, Inc.; Cava Group, Inc.
20182001 | G | Stichting Administratiekantoor Westend; Cava Group, Inc.; Stichting Administratiekantoor Westend.
20182002 | G | Ronald M. Shaich; Cava Group, Inc.; Ronald M. Shaich.
09/17/2018
20180981 | G | Cigna Corporation; Express Scripts Holding Company; Cigna Corporation.
20180982 | G | Express Scripts Holding Company; Cigna Corporation; Express Scripts Holding Company.
20181902 | G | HG Vora Special Opportunities Fund, Ltd.; Caesars Entertainment Corporation; HG Vora Special Opportunities Fund, Ltd.
20181920 | G | Arbejdsmarkedets Tillaegspension; EQT Infrastructure (No. 1) Limited Partnership; Arbejdsmarkedets Tillaegspension.
20181924 | G | 3i Infrastructure plc; EQT Infrastructure (No. 1) Limited Partnership; 3i Infrastructure plc.
09/18/2018
20181913 | G | CSC Sapphire Holdings, L.P.; U.S. Convention Corp.; CSC Sapphire Holdings, L.P.
20181963 | G | Epsilon Holdings, LLC; Accel-KKR Capital Partners IV, LP; Epsilon Holdings, LLC.
20181989 | G | Vista Foundation Fund III, L.P.; Spredfast, Inc.; Vista Foundation Fund III,L.P.
20182007 | G | Industrea Acquisition Corp.; PGP Investors, LLC; Industrea Acquisition Corp.
20182008 | G | PGP Investors, LLC; Industrea Acquisition Corp.; PGP Investors, LLC.
20182011 | G | George's Prepared Foods, LLC; Edward O. Fryar, Jr.; George's Prepared Foods, LLC.
09/19/2018
20181990 | G | Dell Technologies Inc.; CloudHealth Technologies, Inc.; Dell Technologies Inc.
09/21/2018
20182009 | G | Mitsubishi Corporation; Specialty Foods Group, LLC; Mitsubishi Corporation.
20182014 | G | City & County Credit Union; Mill City Credit Union; City & County Credit Union.
20182017 | G | Golden Gate Capital Opportunity Fund, L.P.; NCI Building Systems, Inc.; Golden Gate Capital Opportunity Fund, L.P.
20182023 | G | Greenbriar Equity Fund IV, L.P.; Spireon, Inc.; Greenbriar Equity Fund IV, L.P.
20182025 | G | AEA Investors Fund VI LP; LLR Equity Partners III, L.P.; AEA Investors Fund VI LP.
20182027 | G | Charles S. Luck, IV; John D. Stephens; Charles S. Luck, IV.
20182033 | G | Carlyle Europe Partners IV, L.P.; Investindustrial V L.P.; Carlyle Europe Partners IV, L.P.
20182034 | G | American Securities Partners VII, L.P.; GGEP/CPM Holdings, LLC; American Securities Partners VII, L.P.
20182035 | G | Kayne Private Energy Income Fund II, L.P.; Southwestern Energy Company; Kayne Private Energy Income Fund II, L.P.
09/24/2018
20181756 | G | H.I.G. Advantage Buyout Fund, L.P.; Audax Private Equity Fund III, L.P.; H.I.G. Advantage Buyout Fund, L.P.
20181757 | G | H.I.G. Advantage Buyout Fund, L.P.; Frazier Health Care VI, L.P.; H.I.G. Advantage Buyout Fund, L.P.
20182012 | G | Carlyle Power Partners II, L.P.; General Electric Company; Carlyle Power Partners II, L.P.
20182015 | G | Evolent Health, Inc.; Water Street Healthcare Partners II, L.P.; Evolent Health, Inc.
20182036 | G | Dr. August Oetker KG; TowerBrook Investors III (Parallel), L.P.; Dr. August Oetker KG.
20182038 | G | William P. Stiritz; Post Holdings, Inc.; William P. Stiritz.
09/26/2018
20182048 | G | Markel Corporation; William R. Martin and Joan P. Martin; Markel Corporation.
09/27/2018
20181947 | G | Francisco Partners IV, L.P.; Frontier Fund IV, L.P.; Francisco Partners IV, L.P.
20182031 | G | The Resolute Fund IV, L.P.; Ryan Daube; The Resolute Fund IV, L.P.
09/28/2018
20181723 | G | Allied Universal Topco LLC; U.S. Security Associates. L.P.; Allied Universal Topco LLC.
20181969 | G | Wellforce Inc.; Home Health Foundation, Inc.; Wellforce Inc.
20182020 | G | Alpine Investors VI, LP; Houghton Mifflin Harcourt Company; Alpine Investors VI, LP.
20182049 | G | ArcLight Energy Partners Fund VI, L.P.; Targa Resources Corp.; ArcLight Energy Partners Fund VI, L.P.
20182050 | G | EFR Group Holdings S.a.r.l.; TravelCenters of America LLC; EFR Group Holdings S.a.r.l.
20182052 | G | CGP Big Show Holdco, L.P.; NEP Group, Inc.; CGP Big Show Holdco, L.P.
20182054 | G | Serent Capital III, L.P.; Joseph Kucik; Serent Capital III, L.P.
20182059 | G | SoftBank Vision Fund (AIV M1) L.P.; Zume, Inc.; SoftBank Vision Fund (AIV M1) L.P.
20182063 | G | Carlyle Partners VII Cayman, L.P.; Sedgwick, Inc.; Carlyle Partners VII Cayman, L.P.
20182066 | G | Industrial Growth Partners V, L.P.; Tenex Capital Partners, LP; Industrial Growth Partners V, L.P.
20182067 | G | SS&C Technologies Holdings, Inc.; Impala Private Investments, LLC; SS&C Technologies Holdings, Inc.
20182071 | G | Arbor Investments IV, L.P.; Mars Incorporated; Arbor Investments IV, L.P.
20182073 | G | Avenue Energy Opportunities Fund II AIV, L.P.; AltaGas Ltd.; Avenue Energy Opportunities Fund II AIV, L.P.

FOR FURTHER INFORMATION CONTACT: Theresa Kingsberry, Program Support Specialist, Federal Trade Commission Premerger Notification Office, Bureau of Competition, Room CC-5301, Washington, DC 20024, (202) 326-3100.

By direction of the Commission.
April J. Tabor,
Acting Secretary.

[FR Doc. 2019-07325 Filed 4-11-19; 8:45 am]

BILLING CODE 6750-01-P